DEPARTMENT OF COMMERCE

International Trade Administration

[A-351-603, A-122-601, A-427-602, A-475-601, A-588-704]

Brass Sheet and Strip from Brazil, Canada, France, Italy and Japan; Final Results of the Expedited Sunset Reviews of the Antidumping Duty Orders

AGENCY: Import Administration, International Trade Administration, Department of Commerce.

SUMMARY: On April 1, 2005, the Department of Commerce (“the Department”) initiated sunset reviews of the antidumping duty orders on brass sheet and strip from Brazil, Canada, France, Italy and Japan pursuant to section 751(c) of the Tariff Act of 1930, as amended (“the Act”). The Department conducted expedited (120-day) sunset reviews for these orders. As a result of these sunset reviews, the Department finds that revocation of the antidumping duty orders would be likely to lead to continuation or recurrence of dumping. The dumping margins are identified in the Final Results of Reviews section of this notice.

EFFECTIVE DATE: August 8, 2005.

FOR FURTHER INFORMATION CONTACT: Audrey Twyman or David Goldberger, AD/CVD Operations, Office 1, Import Administration, International Trade Administration, U.S. Department of Commerce, 14th Street & Constitution Avenue, NW, Washington, DC 20230; telephone: (202) 482-3534 and (202) 482-4136, respectively.

SUPPLEMENTARY INFORMATION:

Background

On April 1, 2005, the Department published the notice of initiation of the second sunset reviews of the antidumping duty orders on brass sheet and strip from Brazil, Canada, France, Italy and Japan pursuant to section 751(c) of the Act. See Initiation of Five-year (“Sunset”) Reviews, 70 FR 16800 (April 1, 2005). The Department received the Notice of Intent to Participate from Heyco Metals, Inc., Olin Corporation - Brass Group, Outokumpu American Brass, PMX Industries, Inc., Revere Copper Products, Inc., Scott Brass, International Association of Machinist and Aerospace Workers, United Auto Workers (Local 2367 and Local 1024), and United Steelworkers of America AFL-CIO/CLC (collectively “the domestic interested parties”), within the deadline specified in section 351.218(d)(1)(i) of the Department's Regulations (“Sunset Regulations”). The domestic interested parties claimed interested party status under section 771(9)(C) and (D) of the Act, as manufacturers of a domestic-like product in the United States, and unions whose workers are engaged in the production of a domestic-like product in the United States.

We received complete substantive responses from the domestic interested parties within the 30-day deadline specified in 19 CFR 351.218(d)(3)(i). We received no responses from respondent interested parties with respect to any of the orders covered by these sunset reviews.¹ As a result, pursuant to section 751(c)(4)(A) of the Act and 19 CFR 351.218(e)(1)(ii)(C)(2), the Department conducted an expedited (120-day) sunset review of these orders for Brazil, Canada, France, Italy and Japan.

¹ On April 21, 2005, we received a notification on behalf of Nikko Metal Manufacturing Co., Ltd. in Japan (which claims to be the successor-in-interest to Nippon Mining Co., Ltd.) that it would not be submitting a substantive response.

Scope of the Orders

The product covered by these orders is brass sheet and strip (“BSS”), other than leaded and tinned BSS. The chemical composition of the covered product is currently defined in the Copper Development Association (“C.D.A.”) 200 Series or the Unified Numbering System (“U.N.S.”) C2000. These orders do not cover products the chemical compositions of which are defined by other C.D.A. or U.N.S. series. In physical dimensions, the product covered by these orders has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00. Although the HTSUS item numbers are provided for convenience and customs purposes, the written description of the scope of these orders remains dispositive.

Analysis of Comments Received

All issues raised in these reviews are addressed in the “Issues and Decision Memorandum for the Expedited Sunset Reviews of the Antidumping Duty Orders on Brass Sheet and Strip from Brazil, Canada, France, Italy and Japan; Final Results” (“Decision Memo”) from Barbara Tillman, Acting Deputy Assistant Secretary for Import Administration, to Joseph A. Spetrini, Acting Assistant Secretary for Import Administration, dated August 1, 2005, which is hereby adopted by this notice. The issues discussed in the Decision Memo include the likelihood of continuation or recurrence of dumping and the magnitude of the margins likely to prevail if the orders were to be revoked. Parties can find a complete discussion of all issues raised in these reviews and the corresponding recommendations in this public memorandum which is on file in room B-099 of the main Commerce building.

In addition, a complete version of the Decision Memo can be accessed directly on the Web at http://ia.ita.doc.gov/frn, under the heading “August 2005.” The paper copy and electronic version of the Decision Memo are identical in content.

Final Results of Reviews

We determine that revocation of the antidumping duty orders on brass sheet and strip from Brazil, Canada, France, Italy and Japan would be likely to lead to continuation or recurrence of dumping at the following weighted-average percentage margins:

Manufacturers/Exporters/Producers | Weighted Average Margin (percent)
Brazil
Eluma Corporation | 40.62
All Others | 40.62
Canada
Wolverine Tube, Inc. | 11.54
All Others | 8.10
France
Trefimetaux S.A. | 42.24
All Others | 42.24
Italy
LMI - La Metalli Industriale, SpA | 5.44
All Others | 5.44
Japan
Nippon Mining Co., Ltd. | 57.98
Sambo Copper Alloy Co., Ltd. | 13.30
Mitsubishi Shindoh Co., Ltd. | 57.98
Kobe Steel, Ltd. | 57.98
All Others | 45.72

This notice also serves as the only reminder to parties subject to administrative protective orders (“APO”) of their responsibility concerning the return or destruction of proprietary information disclosed under APO in accordance with 19 CFR 351.305 of the Department's regulations. Timely notification of the return or destruction of APO materials or conversion to judicial protective orders is hereby requested. Failure to comply with the regulations and terms of an APO is a violation which is subject to sanction.

We are issuing and publishing the results and notice in accordance with sections 751(c), 752, and 777(i)(1) of the Act.

Dated: August 1, 2005.
Joseph A. Spetrini,
Acting Assistant Secretary for Import Administration.

[FR Doc. E5-4251 Filed 8-5-05; 8:45 am]

BILLING CODE 3510-DS-S